DEPARTMENT OF HEALTH AND HUMAN SERVICES

Indian Health Service

Mental Health and Community Safety Initiative for American Indian/Alaska Native Children, Youth, and Families

AGENCY: Indian Health Service, HHS.

ACTION: Notice of funding availability for competitive grants for the Mental Health and Community Safety Initiative for American Indian/Alaska Native (AI/AN) Children, Youth, and Families.

SUMMARY: The Indian Health Service (IHS) announces the availability of competitive grants under the Mental Health and Community Safety Initiative for American Indian/Alaska Native (AI/AN) Children, Youth, and Families for fiscal year (FY) 2001. Grants under this Initiative will be administered by the following Federal Agencies:

(1) The Center for Substance Abuse Treatment (CSAT) and the Center for Mental Health Services (CMHS), Substance Abuse and Mental Health Services Administration (SAMHSA), United States Department of Health and Human Services (HHS);

(2) The Office of Community Oriented Policing Services (COPS) and the Office of Juvenile Justice and Delinquency Prevention (OJJDP), United States Department of Justice (DOJ); and

(3) The Office of Elementary and Secondary Education (OESE), United States Department of Education (ED).

The Initiative will provide tribes and tribal organizations with easy-to-access assistance in developing innovative strategies that focus on the mental health, behavioral, substance abuse, and community safety needs of AI/AN young people and their families through a coordinated Federal grant process. Total funding for the four grant programs involved in the Initiative is approximately $4.95 million.

The primary purpose of the Initiative is to promote AI/AN youth mental health, education, and substance abuse-related (alcohol as well as drug abuse) services, and to support juvenile delinquency prevention and intervention through the creation and implementation of culturally sensitive programs. Grant funds will be available for the Initiative beginning in FY 2001, and a coordinated grant program may continue subject to the availability of funds.

The Initiative will support tribes in providing a range of youth support services and programs to address the mental health and related needs of AI/AN young people and their families through various settings within the community, such as in the home, in the schools, in violence prevention education programs, in health care treatment programs, and in the juvenile justice system. Interagency programs are included in this effort based upon their combined potential to comprehensively address mental health, juvenile justice, and related issues. As part of this Initiative, tribes are encouraged to promote coordination and collaboration among the local programs that serve young people in their communities.

Tribes are strongly encouraged to apply for one or more of the grant programs included in the Initiative. In submitting an application(s), tribes should identify the complex community issues involved and demonstrate how the proposed application(s) will provide for a comprehensive approach to addressing and attempting to solve these issues.

Government Agencies Providing Grants Funding

A. The HHS agency providing grant funding for the Initiative is SAMHSA; two Centers, CSAT and CMHS, are providing separate funding.

1. CSAT

The CSAT has available approximately $1 million in FY 2001 for 1-year grant awards for the AI/AN Community Planning Program. The average award may range from $100,000 to $150,000 depending on the size of the identified service population of the applicant. The focus of the grant program is to support planning and consensus building, lending to the development of local substance abuse treatment plans, especially in those communities not previously successful in applying for service funding. The average award may range from $100,000 to $150,000 in total (direct and indirect) costs. Actual funding will depend on availability of funds to SAMHSA. Grants will be awarded for a period of 12 months.

This program will support the development of plans that describe how tribal governments and organizations providing services to urban Indian communities, and other indigenous community organizations, will work together to deliver integrated substance abuse treatment and related services, such as HIV/AIDS prevention, mental health services, primary care, and other public health services. The grants are made up of two types: (1) Development of a community planning process, and (2) Implementation of a services integration plan. The current announcement is for Phase I grants only. Subject to the availability of future funding and accomplishment of Phase I, CSAT may issue a Phase II announcement in the future.

This program is described in the Catalog of Federal Domestic Assistance under #93.230. The deadline for receipt of applications is July 10, 2001.

For information regarding this SAMHSA program contact Maria Burns, Program Management Officer, Division of Practice and Systems Development, Center for Substance Abuse Treatment, 5600 Fishers Lane, RWII, Suite 740, Rockville, MD 20857, (301) 443-7611, Fax: (301) 443-3543, e-mail:mburns@samhsa.gov.

2. CMHS

The CMHS has approximately $2.4 million available for 3-year grant awards to AI/AN tribal governments and urban organizations for the Circles of Care Initiative. The average award may range from $250,000 to $350,000 depending on the size of the identified service population. This Initiative supports planning, designing, and assessing the feasibility of implementing a culturally appropriate system of care for AI/AN children and their families who are experiencing or are at risk of serious emotional/behavioral disturbance. This is the second issuance of the grant program which seeks to provide tribal communities with tools and resources to design systems of care for their children that reflect the unique needs of their communities. This grant program will not fund actual services. An important focus will be to integrate traditional healing methods indigenous to the communities with conventional treatment methodologies.

This program is described in the Catalog of Federal Domestic Assistance under #93.230. The deadline for receipt of applications is May 10, 2001.

For information regarding this SAMHSA program, contact Jill Shepard Erickson, M.S.W., Public Health Advisor, or Gary De Carolis, M.Ed., Chief, Child, Adolescent and Family Branch, Center for Mental Health Services, Substance Abuse and Mental Health Services Administration, Suite 11C-16, Parklawn Building, 5600 Fishers Ln., Rm. 6A-54, Rockville, MD 20857, (301) 443-1333, Fax: (301) 443-3693, e-mail: jerickso@samhsa.gov.

B. DOJ agencies providing grant funding for the Initiative are COPS and OJJDP.

1. COPS

The DOJ/COPS announces the availability of $550,000 for the Mental Health and Community Safety Initiative for AI/AN Children, Youth, and Families. Grants will be awarded for salaries and benefits for new police officers, as well as law enforcement training and equipment, including technology and vehicles, for new and existing police officers. Resources funded under this program (officer positions, equipment, and/or training) must be used to address the mental health, behavioral, and substance abuse needs of Native American youth and their families and provide a range of youth support services and programs both in the community and in the school arena. Sworn police officers must be deployed as Community Resource Officers or as School Resource Officers that engage in community policing activities. Salaries and benefits cover a 3-year period. A 25% local match requirement may be waived on the basis of demonstrated fiscal distress. All applicants must submit a written plan to retain their COPS-funded officer positions after Federal funding has ended.

Included in this $550,000 offering is $50,000 made available by the U.S. Department of Education, Safe and Drug-Free Schools and Communities, to support activities that combat alcohol, tobacco, and other drugs, as well as violence prevention education activities in school- or community-based settings. These activities will be implemented by police officers serving as School Resource or Community Resource Officers. Training in these topic areas will be provided as well as technical assistance to assess needs and to develop a community-wide collaborative implementation plan to address these needs. Once an implementation plan is developed, Community and/or School Resource Officers will be expected to engage in activities—along with their law enforcement activities—as part of the plan to address those community and/or school issues. Examples of such activities might include:

Teach school-based drug or crime prevention programs;

Teach problem-solving courses and supervise tailored responses to problems;

Run after-school programs and recruit parents and other volunteers to assist;

Form task forces of students, parents, teachers, and others to identify concerns;

Implement crime prevention through environmental design projects in the community or school settings;

Refer youth/students to appropriate treatment programs; and

Focus on specific problems like truancy.

This program is described in the Catalog of Federal Domestic Assistance under #16.710. The deadline for receipt of applications is June 22, 2001.

For further information regarding this COPS program, please contact: Linda Rosen, Policy Analyst, Office of Community Oriented Policing Services (COPS), U.S. Department of Justice, 1100 Vermont Avenue, NW., 8th Floor, Washington, DC 20530, (202) 616-2879, Fax: (202) 514-9272, e-mail: linda.rosen@usdoj.gov.

2. OJJDP

The purpose of the Tribal Youth Program (TYP) Mental Health Initiative is to support and enhance tribal efforts for comprehensive delinquency prevention and control as well as improve juvenile justice systems for Native American youth. In FY 2001, $1 million of the total appropriation for the TYP has been set aside to provide mental health services to adjudicated youth in Tribal and/or State juvenile justice systems. The programs or projects to be funded must provide mental health services through one or more of the following activities:

(1) Reduce, control, and prevent crime and delinquency both by and against tribal youth;

(2) Provide interventions for court-involved tribal youth;

(3) Improve tribal juvenile justice systems; and

(4) Provide prevention programs focusing on alcohol and drugs.

This program is described in the Catalog of Federal Domestic Assistance under #16.731. The deadline for receipt of applications is July 6, 2001.

For more information, please contact: Laura Ansera, Program Manager, Tribal Youth Program, Office of Juvenile Justice and Delinquency Prevention (OJJDP), State Relations and Assistance Division, U.S Department of Justice, 810 Seventh Street, NW., Washington, DC 20531, (202) 307-5924, Fax: (202) 307-2819, e-mail: anseral@ojp.usdoj.gov.

Distribution of Grant Application Kits

The SAMHSA, COPS, and OJJDP are preparing a single, consolidated grant application package that will include the program announcement and application kit for each of the four grant programs described above. The consolidated application package will be distributed on or about May 1, 2001. A package will be sent directly to (1) the Tribal Chairman of every federally recognized tribe; (2) the Director of every tribal organization as defined by section 4(1) of Publication Law 93-638, Indian Self-Determination and Education Assistance Act, as amended; and (3) the Director of every tribal health department.

To request additional application packages, please contact: Office of Juvenile Justice and Delinquency Prevention, Juvenile Justice Clearing House, 2277 Research Boulevard, Rockville, Maryland 20850.

Reference: Mental Health and Community Safety Initiative for American Indian/Alaska Native Children, Youth, and Families (Solicitation #476), Telephone: 1-800-638-8736.

Dated: May 14, 2001.
Michel E. Lincoln,
Deputy Director, Indian Health Services.

[FR Doc. 01-12530 Filed 5-17-01; 8:45 am]

BILLING CODE 4160-16-M